DEPARTMENT OF COMMERCE

National Oceanic and Atmospheric Administration

50 CFR Part 660

[Docket No. 010502110-1110-01; I.D. 081601C]

Fisheries Off West Coast States and in the Western Pacific; West Coast Salmon Fisheries; Inseason Adjustment for the Commercial Salmon Season from Queets River, WA, to Cape Falcon, OR

AGENCY: National Marine Fisheries Service (NMFS), National Oceanic and Atmospheric Administration (NOAA), Commerce.

ACTION: Inseason adjustment to the 2001 annual management measures for the ocean salmon fishery; request for comments.

SUMMARY: NMFS announces a modification of the open periods and limited retention regulation for the commercial fishery from the Queets River, WA, to Cape Falcon, OR. The fishing period opened August 3, 2001, and closed at midnight on August 12, 2001, with a limit of 100 chinook per boat for this open period. The fishery was assessed on August 14, 2001, and any further openings will be announced as needed. This action is necessary to conform to the 2001 annual management measures for ocean salmon fisheries.

DATES: Adjustment in the area from Queets River, WA, to Cape Falcon, OR -- effective 0001 hours local time (l.t.), August 3, 2001, until August 12, 2001. Comments will be accepted through September 20, 2001.

ADDRESSES: Submit written comments to Donna Darm, Acting Regional Administrator, Northwest Region, NMFS, NOAA, 7600 Sand Point Way N.E., Bldg. 1, Seattle, WA 98115-0070; fax 206-526-6376; or Rebecca Lent, Regional Administrator, Southwest Region, NMFS, NOAA, 501 W. Ocean Blvd., Suite 4200, Long Beach, CA 90802-4132; fax 562-980-4018. Comments will not be accepted if submitted via e-mail or the Internet. Information relevant to this document is available for public review during business hours at the Office of the Regional Administrator, Northwest Region, NMFS.

FOR FURTHER INFORMATION CONTACT: Christopher Wright, 206-526-6140, Northwest Region, NMFS, NOAA.

SUPPLEMENTARY INFORMATION: The Northwest Regional Administrator, NMFS (Regional Administrator), determined that the modification of the open periods and limited retention regulation for the commercial fishery from the Queets River, WA, to Cape Falcon, OR, was justified, given the relative catch rate of chinook and coho. The open period for the fishery was modified to open for 10 days, starting August 3, 2001, and closed at midnight on August 12, 2001, with a limited retention regulation of 100 chinook per boat for this open period. Modification of fishing seasons is authorized by regulations at 50 CFR 660.409(b)(1)(i). Modification of the species that may be caught and landed during specific seasons, and the establishment or modification of limited retention regulations, is authorized by regulations at 50 CFR 660.409(b)(1)(ii).

In the 2001 annual management measures for ocean salmon fisheries (66 FR 23185, May 8, 2001), NMFS announced that the commercial fishery for all salmon in the area from Queets River to Cape Falcon would open the earlier of the day following closure of the U.S.-Canada Border to Leadbetter Pt. July troll fishery or July 28, but not before July 20, through the earliest of September 30 or the overall chinook quota (preseason 6,000-chinook guideline) or a 63,000 marked-coho guideline. The fishery was scheduled to run continuously until 75 percent of either guideline was caught; it would then revert to a cycle of 4 days open/3 days closed. The annual measures also indicated that trip limits, gear restrictions, and guidelines may be instituted or adjusted inseason.

The U.S.-Canada Border to Leadbetter Pt. July troll fishery was closed in an inseason action on July 9, 2001, at 2359 hours l.t.(66 FR 38573, July 25, 2001). Therefore, the commercial fishery for all salmon from Queets River to Cape Falcon opened on July 20, 2001.

NMFS announced a modification of the weekly opening period and the addition of a limited retention regulation for the commercial fishery from the Queets River, WA, to Cape Falcon, OR, to follow a cycle of 4 days open/3 days closed, and a limit of 65 chinook per open period per boat effective 0001 hours l.t., July 20, 2001 (66 FR 45634, August 29, 2001). The Regional Administrator consulted with representatives of the Pacific Fishery Management Council (Council), Washington Department of Fish and Wildlife (WDFW), and Oregon Department of Fish and Wildlife (ODFW) regarding the inseason action by conference call on July 18, 2001. The states indicated that there was a higher than projected chinook/coho catch ratio. The modifications to the season were adopted to avoid closing the fishery early because of the chinook quota, thus precluding the opportunity to catch available marked hatchery coho salmon.

There was a subsequent conference call on July 26, 2001, following the first open period, to assess the status of the fishery. The chinook/coho catch rates and effort data in the first open period indicated that no further season modifications were necessary for the second 4-day opening (July 27-30, 2001).

After the second open period, the Regional Administrator again consulted with representatives of the Council, WDFW, and ODFW by conference call on August 1, 2001, regarding the fishery. The chinook/coho catch rates and effort data indicated that the availability of coho was increasing in the area. The states recommended that the season be modified to open for 10 days, reopening August 3, 2001, and closing at midnight on August 12, 2001, with a limit of 100 chinook per boat for the open period. All other restrictions that apply to this fishery, as announced in the 2001 annual management measures for ocean salmon fisheries and subsequent inseason actions, remain in effect.

The Regional Administrator consulted with representatives of the Council, WDFW, and ODFW regarding the inseason action by conference call. The best available information on August 1, 2001, indicated that the catch/effort data and projections supported the commercial fishery season modifications. The states will manage the fisheries in state waters adjacent to the areas of the exclusive economic zone in accordance with these Federal actions. As provided by the inseason notice procedures of 50 CFR 660.411, actual notice to fishermen of the adjustments in the area from Queets River to Cape Falcon effective 0001 hours l.t., August 3, 2001, was given prior to the effective date by telephone hotline number 206-526-6667 and 800-662-9825, and by U.S. Coast Guard Notice to Mariners broadcasts on Channel 16 VHF-FM and 2182 kHz.

Because of the need for immediate action for the season modifications for the area from Queets River to Cape Falcon, NMFS has determined that good cause existed for this notification to be issued without affording a prior opportunity for public comment because such notification would be unnecessary, impracticable, and contrary to the public interest. Moreover, because of the immediate need to modify a season because of estimates of effort and catch, the Assistant Administrator for Fisheries, NOAA finds, for good cause, under 5 U.S.C. 553(d)(3), that delaying the effectiveness of this rule for 30 days is impracticable and contrary to public interest.

This action does not apply to other fisheries that may be operating in other areas.

Classification

This action is authorized by 50 CFR 660.409 and 660.411 and is exempt from review under Executive Order 12866.

Authority: 16 U.S.C. 1801 et seq.

Dated: August 23, 2001.
Dean Swanson,
Acting Director, Office of Sustainable Fisheries, National Marine Fisheries Service.

[FR Doc. 01-22277 Filed 9-4-01; 8:45 am]

BILLING CODE 3510-22-S